MARINE MAMMAL COMMISSION

Sunshine Act Notice

TIME AND DATE: The Marine Mammal Commission and its Committee of Scientific Advisors on Marine Mammals will meet on Tuesday, 5 May 2015, from 1:00 p.m. to 6:00 p.m.; Wednesday, 6 May 2015, from 8:30 a.m. to 6:00 p.m.; and Thursday, 7 May 2015, from 8:30 a.m. to 6:00 p.m. The Commission and the Committee also will meet in executive session on Tuesday, 5 May 2015, from 8:30 a.m. to 12 p.m.

PLACE: Francis Marion Hotel, 387 King Street, Charleston, South Carolina.

STATUS: The executive session will be closed to the public in accordance with the provisions of the Government in the Sunshine Act (5 U.S.C. 552b) and applicable regulations. The session will limited to discussions of internal agency practices, personnel, and the budget of the Commission. All other portions of the meeting will be open to the public. Public participation will be allowed as time permits and as determined to be desirable by the Chairman.

MATTERS TO BE CONSIDERED: The Commission and Committee will meet in public session to discuss a broad range of marine mammal science and policy issues related to growing challenges in conserving healthy marine mammal populations and the ecosystems in which they live, with a particular focus on issues related to the Atlantic Coast. An opening roundtable discussion will focus on major marine conservation issues in the Southeast, particularly those off the coast of South Carolina. Six themed sessions will reflect the Objectives in the Commission's Strategic Plan for 2015-19, available at http://www.mmc.gov/reports/strategic_plans/welcome.shtml. These sessions will examine issues related to (1) marine mammal health in the Southeast; (2) North Atlantic right whales; (3) offshore energy; (4) Florida manatees; (5) human interactions with marine mammals; and (6) fisheries bycatch of marine mammals. In addition, the National Marine Fisheries Service's Office of Protected Resources will discuss its strategic plan. A draft meeting agenda is available on the Commission's Web site, http://www.mmc.gov/index.shtml.

CONTACT PERSON FOR MORE INFORMATION: Michael L. Gosliner, General Counsel, Marine Mammal Commission, 4340 East-West Highway, Room 700, Bethesda, MD 20814; (301) 504-0087; email: mgosliner@mmc.gov.

Dated: April 13, 2015.
Rebecca J. Lent,
Executive Director.

[FR Doc. 2015-08771 Filed 4-15-15; 4:15 pm]

BILLING CODE 6820-31-P